DEPARTMENT OF COMMERCE

Foreign-Trade Zones Board

[B-76-2019]

Foreign-Trade Zone (FTZ) 27—Boston, Massachusetts; Notification of Proposed Production Activity; Waters Technologies Corporation (Chromatography Tubing Assemblies); Milford, Massachusetts

Waters Technologies Corporation (Waters) submitted a notification of proposed production activity to the FTZ Board for its facility in Milford, Massachusetts. The notification conforming to the requirements of the regulations of the FTZ Board (15 CFR 400.22) was received on December 13, 2019.

The applicant indicates that it will be submitting a separate application for FTZ designation at the company's facility under FTZ 27. The facility is used for the production of chromatography tubing assemblies. Pursuant to 15 CFR 400.14(b), FTZ activity would be limited to the specific foreign-status component and the specific finished product described in the submitted notification (as described below) and subsequently authorized by the FTZ Board.

Production under FTZ procedures could exempt Waters from customs duty payments on the foreign-status component used in export production. On its domestic sales, for the foreign-status component noted below, Waters would be able to choose the duty rate during customs entry procedures that applies to chromatography tubing assemblies (duty-free). Waters would be able to avoid duty on the foreign-status component which becomes scrap/waste. Customs duties also could possibly be deferred or reduced on foreign-status production equipment.

The component/material sourced from abroad is stainless steel seamless tubing (duty-free). The request indicates that stainless steel seamless tubing is subject to special duties under Section 232 of the Trade Expansion Act of 1962 (Section 232) and Section 301 of the Trade Act of 1974 (Section 301), depending on the country of origin. The applicable Section 232 and Section 301 decisions require subject merchandise to be admitted to FTZs in privileged foreign status (19 CFR 146.41).

Public comment is invited from interested parties. Submissions shall be addressed to the FTZ Board's Executive Secretary and sent to: ftz@trade.gov. The closing period for their receipt is February 4, 2020.

A copy of the notification will be available for public inspection in the “Reading Room” section of the FTZ Board's website, which is accessible via www.trade.gov/ftz.

For further information, contact Diane Finver at Diane.Finver@trade.gov or (202) 482-1367.

Dated: December 13, 2019.
Elizabeth Whiteman,
Acting Executive Secretary.

[FR Doc. 2019-27797 Filed 12-23-19; 8:45 am]

BILLING CODE 3510-DS-P